DEPARTMENT OF COMMERCE

National Oceanic and Atmospheric Administration

RIN 0648-XW99

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP would allow one commercial fishing vessel to fish outside of the limited access scallop days at sea (DAS) program in support of research conducted by the Coonamessett Farm Foundation. The Assistant Regional Administrator has made a preliminary determination that the activities authorized under this EFP would be consistent with the goals and objectives of the Atlantic sea scallop Fishery Management Plan (FMP). However, further review and consultation may be necessary before a final determination is made to issue an EFP. Therefore, NMFS announces that the Assistant Regional Administrator proposes to recommend that an EFP be issued.

Regulations under the Magnuson-Stevens Fishery Conservation and Management Act require publication of this notification to provide interested parties the opportunity to comment on applications for proposed EFPs.

DATES: Comments must be received on or before July 6, 2010.

ADDRESSES: You may submit written comments by any of the following methods:

• Email: DA10-098@noaa.gov. Include in the subject line “Comments on CFarm flounder bycatch EFP.”

• Mail: Patricia A. Kurkul, Regional Administrator, NMFS, NE Regional Office, 55 Great Republic Drive, Gloucester, MA 01930. Mark the outside of the envelope “Comments on CFarm flounder bycatch EFP.”

• Fax: (978) 281-9135.

FOR FURTHER INFORMATION CONTACT: Christopher Biegel, Fisheries Management Specialist, 978-281-9112.

SUPPLEMENTARY INFORMATION: The Coonamessett Farm Foundation has been awarded a research grant through the Commercial Fisheries Research Foundation titled, “Testing of a Low Profile Excluder Dredge for Winter Flounder Bycatch Reduction.” The primary objective of this testing is to begin to develop dredge modifications to reduce winter flounder bycatch in the Atlantic sea scallop fishery. A single vessel would conduct ten to twenty 60-minute tows at 4.5 knots with an experimental low profile excluder dredge over a three-day period. Coonamessett Farm would deploy dredge-mounted video cameras to document the interactions between the dredge and any encountered species. Collection of this video data is the only objective of these research tows and no species will be retained or landed. The vessel is expected to catch a minimal amount of scallops (100 lb), winter flounder (100 lb), yellowtail flounder (20 lb), monkfish (50 lb), and little skate (100 lb). All fish would be returned to the sea as quickly as possible to minimize discard mortality. The tows will be conducted in late June or early July 2010, between Montauk Point and Martha's Vineyard at a depth of 30 to 60 m, depending on concentrations of winter flounder.

Coonamessett Farm submitted a complete EFP application on May 14, 2010, requesting exemption allowing one commercial fishing vessel to fish outside of the limited access Atlantic sea scallop DAS regulations found at 50 CFR 648.53(b). Any fishing activity conducted outside the scope of the exempted fishing activity would be prohibited.

Authority: 16 U.S.C. 1801 et seq.

Dated: June 15, 2010.
James P. Burgess,
Acting Director, Office of Sustainable Fisheries, National Marine Fisheries Service.

[FR Doc. 2010-14788 Filed 6-15-10; 4:15 pm]

BILLING CODE 3510-22-S